NUCLEAR REGULATORY COMMISSION

[Docket Nos. 50-361 and 50-362; NRC-2013-0083]

Southern California Edison, San Onofre Nuclear Generating Station, Units 2 and 3 Request for Action

AGENCY: Nuclear Regulatory Commission.

ACTION: Request for action; receipt.

SUMMARY: The U.S. Nuclear Regulatory Commission (NRC) is giving notice that by petition dated June 18, 2012, Friends of the Earth (FOE, the petitioner) has requested that the NRC take action with regard to the San Onofre Nuclear Generating Station. The petitioner's requests are included in the SUPPLEMENTARY INFORMATION section of this document.

ADDRESSES: Please refer to Docket ID NRC-2013-0083 when contacting the NRC about the availability of information regarding this document. You may access information related to this document, which the NRC possesses and is publicly available, using the following methods:

• Federal Rulemaking Web site: Go to http://www.regulations.gov and search for Docket ID NRC-2013-0083. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On June 18, 2012 (ADAMS Accession No. ML12171A409), the petitioner requested that the NRC take action with regard to San Onofre Nuclear Generating Station, Units 2 and 3. The petitioner supplemented its petition on November 16, 2012 (ADAMS Accession No. ML12325A748). The petitioner met with the Petition Review Board (PRB) on January 16, 2013, to discuss the petition, and supplemented its petition on February 6, 2013 (ADAMS Accession No. ML13109A075). On February 12, 2013 (ADAMS Accession No. ML13116A265), FOE requested that Mitsubishi Heavy Industries' Report entitled Root Cause Analysis Report for tube wear identified in the Unit 2 and Unit 3 Steam Generators at San Onofre Generating Station and other specified documents be considered in the PRB's evaluation of the petition. The petitioner requests that the NRC order Southern California Edison (SCE) to submit a license amendment application for the design and installation of the replacement steam generators. The petitioner also requests that the NRC suspend the licenses for Units 2 and 3, until they are amended.

As the basis for this request, the petitioner states that SCE violated Title 10 of the Code of Federal Regulations (10 CFR) 50.59 when it replaced its steam generators in 2010 and 2011 without first obtaining NRC approval of the design changes via a license amendment.

The request is being treated pursuant to 10 CFR 2.206 of the Commission's regulations. The request has been referred to the Director of the Office of Nuclear Reactor Regulation. As provided by 10 CFR 2.206, appropriate action will be taken on this petition within a reasonable time.

Further, FOE submitted on April 4, 2013, a cover letter and technical review entitled Review of Tube Wear Identified in the San Onofre Replacement Steam Generators—Mitsubishi Reports UES-20120254 Rev.0 (3/64) and L5-04GA588(0) together with Other Relevant Information conducted by Large & Associates, Consulting Engineers retained by FOE (ADAMS Accession No. ML13116A266 and ML13116A267, respectively). The PRB will also consider the safety significance and complexity of this information and determine if the information should be consolidated with the existing petition, or if it will be treated as a new petition.

A copy of the transcript of the January 16, 2013, meeting is available at ADAMS Accession No. ML13029A643.

For the Nuclear Regulatory Commission.
Dated at Rockville, Maryland, this 30th day of April 2013.
Daniel H. Dorman,
Deputy Director for Engineering and Corporate Support, Office of Nuclear Reactor Regulation.

[FR Doc. 2013-11036 Filed 5-8-13; 8:45 am]

BILLING CODE 7590-01-P